INTERNATIONAL TRADE COMMISSION

[Investigation No. 337-TA-920]

Certain Integrated Circuits and Products Containing the Same Institution of Investigation Pursuant to 19 U.S.C. 1337

AGENCY: U.S. International Trade Commission.

ACTION: Notice.

SUMMARY: Notice is hereby given that a complaint was filed with the U.S. International Trade Commission on May 12, 2014, under section 337 of the Tariff Act of 1930, as amended, 19 U.S.C. 1337, on behalf of Freescale Semiconductor, Inc. of Austin, Texas. An amended complaint was filed May 27, 2014. The complaint, as amended, alleges violations of section 337 based upon the importation into the United States, the sale for importation, and the sale within the United States after importation of certain integrated circuits and products containing the same by reason of infringement of certain claims of U.S. Patent No. 5,962,926 (“the `926 patent”); U.S. Patent No. 7,158,432 (“the `432 patent”); U.S. Patent No. 7,230,505 (“the `505 patent”); U.S. Patent No. 7,518,947 (“the `947 patent”); U.S. Patent No. 7,626,276 (“the `276 patent”); and 7,746,716 (“the `716 patent”). The complaint, as amended, further alleges that an industry in the United States exists as required by subsection (a)(2) of section 337.

The complainant requests that the Commission institute an investigation and, after the investigation, issue a general exclusion order, or in the alternative a limited exclusion order, and cease and desist orders.

ADDRESSES: The complaint, as amended, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2014).

Scope Of Investigation: Having considered the complaint, as amended, the U.S. International Trade Commission, on June 26, 2014, ordered that—

(1) Pursuant to subsection (b) of section 337 of the Tariff Act of 1930, as amended, an investigation be instituted to determine whether there is a violation of subsection (a)(1)(B) of section 337 in the importation into the United States, the sale for importation, or the sale within the United States after importation of certain integrated circuits and products containing the same by reason of infringement of one or more of claims 1, 7, 11, and 16 of the `926 patent; claims 1, 4, and 5 of the `432 patent; claims 1 and 2 of the `505 patent; claims 1, 2, 17, and 18 of the `947 patent; claims 1, 2, 5, 8, 9, 16, and 17 of the `276 patent; and claims 1 and 5-8 of the `716 patent, and whether an industry in the United States exists as required by subsection (a)(2) of section 337;

(2) For the purpose of the investigation so instituted, the following are hereby named as parties upon which this notice of investigation shall be served:

(a) The complainant is: Freescale Semiconductor, Inc., 6501 William Cannon Drive West, Austin, TX 78735.

(b) The respondents are the following entities alleged to be in violation of section 337, and are the parties upon which the complaint is to be served:

MediaTek Inc., No. 1 Dusing 1st Road, Hsinchu Science Park, Hsinchu City 30078, Taiwan.

MediaTek USA Inc., 2860 Junction Avenue, San Jose, California 95134.

Acer Inc., 8F, 88 Sec. 1, Xintai 5th Road, Xizhi, New Taipei City 221, Taiwan.

AmTRAN Technology Co. Ltd., No. 268, Lien Chen Road, 17th Floor, Chung Ho City, New Taipei 11235, Taiwan.

AmTRAN Logistics, Inc., 9351 Irvine Center Drive, Irvine, California 92618.

ASUSTek Computer Inc., No.15, Li-Te Rd., Peitou, Taipei 11259, Taiwan.

ASUS Computer International, Inc., 800 Corporate Way, Fremont, California 94539.

BLU Products, Inc., 10814 NW 33rd St # 100, Doral, Florida 33172.

Sharp Corporation, 22-22 Nagaike-cho, Abeno-ku, Osaka 545-8522, Japan.

Sharp Electronics Corporation, Sharp Plaza, Mahwah, New Jersey 07495.

Sharp Electronics Manufacturing Company of America Inc., 9295 Siempre Viva Road, Suite J-2, San Diego, California 92154.

Sony Corporation, 1-7-1 Konan, Minato-ku, Tokyo 108-0075, Japan.

Sony Corporation of America, 550 Madison Avenue, New York, New York 10022.

Sony Electronics, Inc., 16530 Via Esprillo, San Diego, California 92127.

Sony EMCS (Malaysia) Sdn Bhd, Lot 5 Jalan Kemujuan, Kawasan Perindustrian Bangi, 43650 Bandar Baru Bangi, Selangor, Tingkat Perusahaan 4a 13600, Prai Free Trade Zone, Prai, Penang, Malaysia.

Toshiba America Information Systems, Inc., 9740 Irvine Boulevard, Irvine, California 92618.

Toshiba Logistics America, Inc., 9740 Irvine Boulevard, Irvine, California 92618.

TPV Display Technology (Xiamen) Co., Ltd., No. 1, Xianghai Road, (Xiang'An) Industrial Zone, Torch Hi-New Zon, Xiamen, Fujian, 361101, China.

Trend Smart America, Ltd., 2 South Pointe Drive, Suite 152, Lake Forest, California 92630.

Trend Smart Ce México, S.r.l. de C.V., Sor Juana Ines De La Cruz No. 196202, Tijuana, Baja California, 22435, Mexico.

Vizio, Inc., 39 Tesla, Irvine, California 92618.

Yamaha Corporation, 10-1, Nakazawa-cho, Naka-ku, Hamamatsu, Shizuoka 430-8650, Japan, Yamaha Corporation of America, 6600 Orangethorpe Avenue, Buena Park, California 90620.

Lenovo Group Ltd., No. 6 Chuangye Road, Shangdi Information Industry Base, Haidian District, Beijing, 100085, China.

Lenovo (United States) Inc., 1009 Think Place, Morrisville, North Carolina 27560.

Best Buy Co., Inc., 7601 Penn Avenue South, Richfield, Minnesota 55423.

Newegg Inc., 16839 East Gale Avenue, City Of Industry, California 91745.

Buy.com Inc. d/b/a Rakuten.com Shopping, 85 Enterprise Suite 100, Aliso Viejo, California 92656.

Walmart Stores, Inc., 702 SW. 8th Street, Bentonville, Arkansas 72716.

Amazon.com, Inc., 410 Terry Avenue North, Seattle, Washington 98109.

B&H Foto & Electronics Corp., 420 Ninth Avenue, New York, New York 10001.

Costco Wholesale Corporation, 999 Lake Drive, Issaquah, Washington 98027.

(c) The Office of Unfair Import Investigations, U.S. International Trade Commission, 500 E Street, SW., Suite 401, Washington, DC 20436; and

(3) For the investigation so instituted, the Chief Administrative Law Judge, U.S. International Trade Commission, shall designate the presiding Administrative Law Judge.

Responses to the complaint, as amended, and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint, as amended, and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 26, 2014.
Lisa R. Barton,
Secretary to the Commission.

[FR Doc. 2014-15501 Filed 7-1-14; 8:45 am]

BILLING CODE 7020-02-P